DEPARTMENT OF THE INTERIOR

Fish and Wildlife Service

[Docket No. FWS-R9-ES-2011-0099; FF09E40000 145 FXES11150900000]

RIN 1018-AY29

Policy Regarding Voluntary Prelisting Conservation Actions

AGENCY: Fish and Wildlife Service, Interior.

ACTION: Announcement of draft policy; extension of comment period.

SUMMARY: On July 22, 2014, we, the U.S. Fish and Wildlife Service, announced a draft policy on crediting voluntary conservation actions taken for species prior to their listing under the Endangered Species Act. The proposed policy seeks to give landowners, government agencies, and others incentives to carry out voluntary conservation actions for nonlisted species by allowing the benefits to the species from a voluntary conservation action undertaken prior to listing under the Act to be used—either by the person who undertook such action or by a third party—to mitigate or to serve as a compensatory measure for the detrimental effects of another action undertaken after listing. This draft policy, if adopted, would help us further our efforts to protect native species and conserve the ecosystems on which they depend.

We announce the extension of the comment period for our July 22, 2014, proposed policy to ensure the public has sufficient time to comment on the proposed policy.

DATES: We will accept comments from all interested parties until November 6, 2014. Please note that if you are using the Federal eRulemaking Portal (see ADDRESSES below), the deadline for submitting an electronic comment is 11:59 p.m. Eastern Standard Time on this date.

ADDRESSES: You may submit comments by one of the following methods:

• Federal eRulemaking Portal: http://www.regulations.gov. In the Search box enter the Docket number for the proposed policy, which is FWS-R9-ES-2011-0099. You may enter a comment by clicking on “Comment Now!”. Please ensure that you have found the correct document before submitting your comment.

• U.S. mail or hand delivery: Public Comments Processing, Attn: Docket No. FWS-R9-ES-2011-0099; Division of Policy and Directives Management; U.S. Fish and Wildlife Service; MS: PDM, 5275 Leesburg Pike, Falls Church, VA 22041-3803.

We will post all comments on http://www.regulations.gov. This generally means that we will post any personal information you provide us (see Public Comments below for more information).

FOR FURTHER INFORMATION CONTACT: Jim Serfis, Chief, Branch of Communications and Candidate Conservation, U.S. Fish and Wildlife Service Headquarters, MS: ES, 5275 Leesburg Pike, Falls Church, VA 22041-3803, telephone 703/358-2171.

SUPPLEMENTARY INFORMATION:

Background

On July 22, 2014 (79 FR 42525), we published a draft policy on crediting voluntary conservation actions taken for species prior to their listing under the Endangered Species Act and requested comments, information, and suggestions from the public. See that document for specific questions we asked and for more detailed information.

We have received a request for an extension of the comment period from the Association of Fish & Wildlife Agencies so that State fish and wildlife agencies could have adequate time to submit comments in response to the proposal. To accommodate this request, we extend the comment period for an additional 45 days.

Public Comments

If you previously submitted comments or information on the proposed policy, please do not resubmit them. We have incorporated them into the public record, and we will fully consider them in our final policy. Our final policy will take into consideration all written comments and any additional information we receive.

We intend that a final policy will consider information and recommendations from all interested parties. We, therefore, solicit comments, information, and recommendations from governmental agencies, Indian Tribes, the scientific community, industry groups, environmental interest groups, and any other interested parties. All comments and materials received by the date listed above in DATES will be considered prior to the approval of a final document.

If you submit information via http://www.regulations.gov, your entire submission—including any personal identifying information—will be posted on the Web site. If your submission is made via a hardcopy that includes personal identifying information, you may request at the top of your document that we withhold this information from public review. However, we cannot guarantee that we will be able to do so. We will post all hardcopy submissions on http://www.regulations.gov.

Authority

The authority for this action is the Endangered Species Act of 1973, as amended (16 U.S.C. 1531 et seq.).

Dated: September 16, 2014.
Stephen Guertin,
Acting Director, U.S. Fish and Wildlife Service.

[FR Doc. 2014-22493 Filed 9-19-14; 8:45 am]

BILLING CODE 4310-55-P